DEPARTMENT OF ENERGY

Office of Energy Efficiency and Renewable Energy

Energy Efficiency and Renewable Energy Advisory Committee (ERAC)

AGENCY: Department of Energy, Office of Energy Efficiency and Renewable Energy.

ACTION: Notice of open meeting.

SUMMARY: This notice announces the first meeting of the Energy Efficiency and Renewable Energy Advisory Committee (ERAC). The Federal Advisory Committee Act, Pub. L. 92-463, 86 Stat. 770, requires that public notice of this meeting be announced in the Federal Register. To attend the meeting and/or to make oral statements during the public comment period, please e-mail erac@ee.doe.gov at least five business days before the meeting, no later than Tuesday, November 23, 2010. In the e-mail, please indicate your name, organization (if appropriate), citizenship, and contact information. Please be aware, entry to the DOE Forrestal building will be restricted to those who have confirmed their attendance in advance. Anyone attending the meeting will be required to present a government photo identification, such as a passport, driver's license, or government identification. Due to the required security screening upon entry, individuals attending should arrive early to allow for the extra time needed.

DATES: Tuesday, November 30, 2010; 8:30 a.m.-5 p.m.

ADDRESSES: Department of Energy, Forrestal Building, 1000 Independence Avenue, SW., Washington, DC 20585—Room 1E-245. Please arrive early for building entry requirements, see the Summary and Public Participation sections for more information.

FOR FURTHER INFORMATION CONTACT: erac@ee.doe.gov.

SUPPLEMENTARY INFORMATION:

Purpose of Meeting: To provide advice and recommendations to the Secretary of Energy on the research, development, demonstration, and deployment priorities within the field of energy efficiency and renewable energy.

Agenda Topics: (Subject to change; updates will be posted on http://www.eere.energy.gov/eere_advisory_committee):

• Overview of EERE Strategies for Research, Development, Demonstration and Deployment of Energy Efficient and Renewable Energy Technologies.

• EERE initiative on building retrofits.

• EERE initiative on $1 per watt Photovoltaic systems.

• Public Comment.

Public Participation: Members of the public are welcome to observe the business of the meeting of ERAC and to make oral statements during the specified period for public comment. The public comment period will take place between 4:30 p.m. through 5 p.m. during the day of the meeting (Tuesday, November 30, 2010). To attend the meeting and/or to make oral statements regarding any of the items on the agenda, e-mail erac@ee.doe.gov at least five business days before the meeting, no later than Tuesday, November 23, 2010. In the e-mail, please indicate your name, organization (if appropriate), citizenship, and contact information. Please be aware, entry to the DOE Forrestal building will be restricted to those who have confirmed their attendance in advance. Anyone attending the meeting will be required to present a government photo identification, such as a passport, driver's license, or government identification. Due to the required security screening upon entry, individuals attending should arrive early to allow for the extra time needed.

Members of the public will be heard in the order in which they sign up for the Public Comment Period. Oral comments should be limited to two minutes in length. Reasonable provision will be made to include the scheduled oral statements on the agenda. The chair of the committee will make every effort to hear the views of all interested parties and to facilitate the orderly conduct of business.

Participation in the meeting is not a prerequisite for submission of written comments. ERAC invites written comments from all interested parties. If you would like to file a written statement with the committee, you may do so either by submitting a hard or electronic copy before or after the meeting. Electronic copy of written statements should be e-mailed to erac@ee.doe.gov.

Minutes: The minutes of the meeting will be available for public review at http://www.eere.energy.gov/eere_advisory_committee.

Issued in Washington, DC, on November 8, 2010.
Rachel Samuel,
Deputy Committee Management Officer.

[FR Doc. 2010-28640 Filed 11-12-10; 8:45 am]

BILLING CODE 6450-01-P